DEPARTMENT OF STATE

[Public Notice 7940]

Determination Under the Foreign Assistance Act and the Department of State, Foreign Operations, and Related Programs Appropriations Acts

Pursuant to Section 654(c) of the Foreign Assistance Act of 1961, as amended (FAA), notice is hereby given that the Deputy Secretary of State has made a determination pursuant to Section 620H of the FAA, and Section 7021 of the Department of State, Foreign Operations, and Related Programs Appropriations, 2012 (Div. I, Pub. L. 112-74), and similar provisions in prior-year appropriations acts, and has concluded that publication of the determination would be harmful to the national security of the United States.

This notice shall be published in the Federal Register.

Dated: June 22, 2012.
Vann H. Van Diepen,
Principal Deputy Assistant Secretary of State.

[FR Doc. 2012-16196 Filed 6-29-12; 8:45 am]

BILLING CODE 4710-27-P